DEPARTMENT OF LABOR

Employment and Training Administration

[TA-W-58,929]

Milprint, Inc., a Division of Bemis Company, Denmark, WI; Notice of Negative Determination on Reconsideration

On May 10, 2006, the Department issued an Affirmative Determination Regarding Application for Reconsideration for the workers and former workers of the subject firm. The Notice was published in the Federal Register on May 17, 2006 (71 FR 28712). The workers produce flexible plastic packaging, used largely in confectionary and snack food markets, and paper for packaging cigarettes. Workers are not separately identifiable by product line.

The petition for Trade Adjustment Assistance (TAA) and Alternative Trade Adjustment Assistance (ATAA) filed on behalf of the workers of Milprint, Inc., A Division of Bemis Company, Denmark, Wisconsin (subject firm) was denied because the subject firm neither imported flexible plastic packaging or cigarette paper, nor shifted production of either article abroad during the relevant period. The investigation also revealed that the parent firm experienced increased sales of articles like or directly competitive with those produced by the subject facility during the investigatory period.

The petitioners had also filed as workers of a secondarily-affected company (supplied component parts for articles produced by a firm with a currently TAA-certified worker group). In the initial determination, the Department stated that the subject facility does not supply cigarette paper component parts to any TAA-certified firm in the relevant time period and that flexible plastic packaging is not a component part of confectionaries.

In the request for reconsideration, the United Steel Workers, Local 7-1203 (Union) stated that cigarette packaging paper constituted ten percent of subject firm production and that it was supplied to a TAA-certified firm, P.H. Gladfether, Neenah, Wisconsin (TA-W-53,612). The Union also stated that flexible plastic packaging constituted ninety percent of subject firm production and that this article was supplied to TAA-certified companies: Farley's and Sather Candy (TA-W-51,546), Archibald Candy (TA-W-53,983), American Safety Razor (TA-W-57,323), and Bob's Candy (TA-W-57,772).

To be certified as a secondarily-affected company, the subject firm must have a customer with a currently TAA-certified worker group and the subject firm produces a component part of the product that was the basis for the customer's certification. In addition, the TAA-certified customer must account for at least twenty percent of subject firm's sales or production or the loss of business with the customer contributed importantly to the workers' separations.

According to the Union, cigarette paper production constituted only ten percent of subject firm production. Even if P.H. Gladfether, Neenah, Wisconsin was the subject firm's only customer of this product, sales to P.H. Gladfether would have accounted for less than twenty percent of overall sales or production of the subject firm. Further, P.H. Gladfether, Neenah, Wisconsin was not a major customer of the subject firm. Therefore, the Department determines P.H. Gladfether accounted for less than twenty percent of overall subject firm sales or production and the loss of business with this customer did not contribute importantly to the workers' separations.

In order to determine whether the workers are eligible to apply for TAA as secondarily-affected workers of a company that supplied flexible plastic packaging to a firm with a currently TAA-certified worker group, the Department requested the subject firm's 2005 sales figures for Farley's and Sather Candy, Archibald Candy, American Safety Razor, and Bob's Candy.

The reconsideration investigation revealed that, during the relevant period, the subject firm conducted no business with three of the customers identified by the Union and conducted an insignificant amount of business with the fourth customer. As such, the Department determines that each customer accounted for less that twenty percent of overall subject firm sales or production and that the loss of business with each customer did not contribute importantly to the workers' separations.

The Union also alleged in the request for reconsideration that flexible plastic packaging production had shifted abroad. During the reconsideration investigation, the Department confirmed that flexible plastic packaging production did not shift abroad but shifted to affiliated production facilities in Lancaster, Wisconsin and Lebanon, Pennsylvania.

Conclusion

After review of the application and investigative findings, I conclude that there has been no error or misinterpretation of the law or of the facts which would justify revision of the Department of Labor's prior decision. Accordingly, the application is denied.

Signed at Washington, DC, this 21st day of July 2006.
Elliott S. Kushner,
Certifying Officer, Division of Trade Adjustment Assistance.

[FR Doc. E6-12208 Filed 7-28-06; 8:45 am]

BILLING CODE 4510-30-P